NUCLEAR REGULATORY COMMISSION

[NUREG-1852]

Demonstrating the Feasibility and Reliability of Operator Manual Actions in Response to Fire, Draft Report for Comment

AGENCY: Nuclear Regulatory Commission.

ACTION: Extension of comment period for NUREG 1852, “Demonstrating the Feasibility and Reliability of Operator Manual Actions in Response to Fire, Draft Report for Comment.”

SUMMARY: On October 12, 2006 (71 FR 60200), the Nuclear Regulatory Commission (NRC) issued for public comment NUREG 1852, “Demonstrating the Feasibility and Reliability of Operator Manual Actions in Response to Fire, Draft Report for Comment.” A request has been made to extend the public comment period such that the public will have a full 60 days to review this report. Currently, the Federal Register specifies that the public comment period ends on November 6, 2006, less than 30 days after the issuance of the Federal Register Notice.

DATES: The comment period has been extended and now expires on December 12, 2006. Comments received after this date will be considered if it is practical to do so, but the Commission is able to ensure consideration only for comments received before this date.

ADDRESSES: Members of the public are invited and encouraged to submit written comments to Michael Lesar, Chief, Rulemaking, Directives and Editing Branch, Office of Administration, Mail Stop T6-D59, U.S. Nuclear Regulatory Commission, Washington, DC 20555-0001. Hand-deliver comments attention to Michael Lesar, 11545 Rockville Pike, Rockville, MD, between 7:30 a.m. and 4:15 p.m. on Federal workdays. Comments may also be sent electronically to NRCREP@nrc.gov.

This document, NUREG-1852, is available at the Agencywide Documents Access and Management System (ADAMS) Public Electronic Reading Room on the Internet at the NRC Web site at http://www.nrc.gov/reading-rm/adams.html under Accession No. ML0623502923; on the NRC Web site at http://www.nrc.gov/reading-rm/doc-collections/nuregs/docs4comment.html; and at the NRC Public Document Room, 11555 Rockville Pike, Rockville, MD. The PDR's mailing address is USNRC PDR, Washington, DC 20555; telephone (301) 415-4737 or (800) 397-4205; fax (301) 415-3548; e-mail PDR@NRC.GOV.

FOR FURTHER INFORMATION, CONTACT: Erasmia Lois, Human Factors and Reliability Branch, Office of Nuclear Regulatory Research, telephone (301) 415-6560, e-mail exl1@nrc.gov.

Dated at Rockville, Maryland, this 16th day of October, 2006.
For the Nuclear Regulatory Commission.
Jose Ibarra,
Chief, Human Factors and Reliability Branch, Probabilistic Risk and Applications, Division of Risk Assessment and Special Projects, Office of Nuclear Regulatory Research.

[FR Doc. E6-17824 Filed 10-23-06; 8:45 am]

BILLING CODE 7590-01-P